DEPARTMENT OF TRANSPORTATION

Surface Transportation Board

[Docket No. FD 35644]

BNSF Railway Company—Acquisition and Operation Exemption—Nebraska Northeastern Railway Company

AGENCY: Surface Transportation Board.

ACTION: Notice of exemption.

SUMMARY: The Board is granting an exemption under 49 U.S.C. 10502 from the prior approval requirements of 49 U.S.C. 11323-25 for BNSF Railway Company (BNSF), a Class I rail carrier, to acquire and operate a 120.4-mile rail line owned by Nebraska Northeastern Railway Company (NENE), a Class III rail carrier, between milepost 4.0, near Ferry Station, Neb., and milepost 124.4, at O'Neill, Neb. Upon consummation of the authorized transaction, BNSF would replace NENE as the only rail carrier providing freight service on the line. The acquisition and operation exemption is subject to standard labor protective conditions.

DATES: This exemption will be effective on November 17, 2012. Petitions to stay must be filed by November 2, 2012. Petitions to reopen must be filed by November 13, 2012.

ADDRESSES: Send an original and 10 copies of all pleadings referring to Docket No. FD 35644 to: Surface Transportation Board, 395 E Street SW., Washington, DC 20423-0001. In addition, send one copy of pleadings to: Karl Morell, Ball Janik LLP, Suite 225, 655 Fifteenth Street NW., Washington, DC 20005.

FOR FURTHER INFORMATION CONTACT: Scott M. Zimmerman, (202) 245-0386. Assistance for the hearing impaired is available through the Federal Information Relay Service (FIRS) at (800) 877-8339.

SUPPLEMENTARY INFORMATION: Additional information is contained in the Board's decision served October 18, 2012, which is available on our Web site at www.stb.dot.gov.

Decided: October 9, 2012.
By the Board, Chairman Elliott, Vice Chairman Mulvey, and Commissioner Begeman.
Jeffrey Herzig,
Clearance Clerk.

[FR Doc. 2012-25650 Filed 10-17-12; 8:45 am]

BILLING CODE 4915-01-P